INTERNATIONAL TRADE COMMISSION

[Investigation Nos. 701-TA-716-719 and 731-TA-1683-1687 (Final)]

Epoxy Resins From China, India, South Korea, Taiwan, and Thailand; Revised Schedule for the Subject Investigations

AGENCY: United States International Trade Commission.

ACTION: Notice.

DATES: November 29, 2024.

FOR FURTHER INFORMATION CONTACT: Alejandro Orozco (202-205-3177), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: Effective November 13, 2024, the Commission established a schedule for the conduct of the final phase of the subject investigations (89 FR 92719, November 22, 2024) following the U.S. Department of Commerce's (“Commerce”) preliminary affirmative sales-at-less-than-fair-value determination with respect to epoxy resins from China (89 FR 89594, November 13, 2024). Commerce subsequently postponed the date for its final determination in the sales-at-less-than-fair-value investigation with respect to China from January 21, 2025 to March 28, 2025 (89 FR 94709, November 29, 2024). The Commission, therefore, is revising its schedule to conform with Commerce's new schedule.

The Commission's revised dates in the schedule are as follows: the prehearing staff report will be placed in the nonpublic record on March 18, 2025; the deadline for filing prehearing briefs is 5:15 p.m. on March 25, 2025; requests to appear at the hearing must be filed with the Secretary to the Commission not later than 5:15 p.m. on March 26, 2025; the prehearing conference, if deemed necessary, will be held at the U.S. International Trade Commission Building on March 28, 2025; the hearing will be held at the U.S. International Trade Commission Building at 9:30 a.m. on April 3, 2025; the deadline for filing posthearing briefs is 5:15 p.m. on April 10, 2025; the Commission will make its final release of information on April 23, 2025; and final party comments are due on 5:15 p.m. on April 25, 2025.

For further information concerning this proceeding, see the Commission's notice cited above and the Commission's Rules of Practice and Procedure, part 201, subparts A through E (19 CFR part 201), and part 207, subparts A and C (19 CFR part 207).

Authority: This investigation is being conducted under authority of title VII of the Tariff Act of 1930; this notice is published pursuant to § 207.21 of the Commission's rules.

By order of the Commission.
Issued: December 6, 2024.
Lisa Barton,
Secretary to the Commission.

[FR Doc. 2024-29106 Filed 12-10-24; 8:45 am]

BILLING CODE 7020-02-P